DEPARTMENT OF THE INTERIOR

National Park Service

[NPS-WASO-NAGPRA-NPS0038837; PPWOCRADN0-PCU00RP14.R50000]

Notice of Inventory Completion: The Fort Ticonderoga Association, Ticonderoga, NY

AGENCY: National Park Service, Interior.

ACTION: Notice.

SUMMARY: In accordance with the Native American Graves Protection and Repatriation Act (NAGPRA), The Fort Ticonderoga Association has completed an inventory of human remains and has determined that there is a cultural affiliation between the human remains and Indian Tribes or Native Hawaiian organizations in this notice. The human remains were removed from Essex County, NY.

DATES: Repatriation of the human remains in this notice may occur on or after November 8, 2024.

ADDRESSES: Miranda Peters, The Fort Ticonderoga Association, 30 Fort Ti Road, Ticonderoga, NY 12883, telephone (518) 585-1015, email mpeters@fort-ticonderoga.org.

SUPPLEMENTARY INFORMATION: This notice is published as part of the National Park Service's administrative responsibilities under NAGPRA. The determinations in this notice are the sole responsibility of The Fort Ticonderoga Association, and additional information on the determinations in this notice, including the results of consultation, can be found in the inventory or related records. The National Park Service is not responsible for the determinations in this notice.

Abstract of Information Available

Based on the information available, human remains representing, at least, one individual have been reasonably identified. No associated funerary objects are present. On an unknown date, this individual was found in washout at the top of the hill due north of the northeast corner of the French Lines on the Carillon Battlefield. Since that date they have been housed at Fort Ticonderoga. On April 10, 2024, this individual was identified by an osteologist.

Based on the information available, human remains representing, at least, one individual have been reasonably identified. No associated funerary objects are present. On December 5, 2000, this individual was removed on, near, or within the East Terreplein during construction for a new visitors' center. Since that date they have been housed at Fort Ticonderoga. On April 10, 2024, this individual was identified by an osteologist.

Based on the information available, human remains representing, at least, one individual have been reasonably identified. No associated funerary objects are present. In early May 2001, the individual was first discovered on a ledge on the south side of the Northeast Bastion and was removed in November 2001. The tooth was surrounded by fine fill that was possibly removed from the East Terreplein in November 2000 during construction for a new visitors' center. Since that date they have been housed at Fort Ticonderoga. On April 10, 2024, this individual was identified by an osteologist.

Cultural Affiliation

Based on the information available and the results of consultation, cultural affiliation is reasonably identified by the geographical location and acquisition history of the human remains described in this notice.

Determinations

The Fort Ticonderoga Association has determined that:

• The human remains described in this notice represent the physical remains of three individuals of Native American ancestry.

• There is a reasonable connection between the human remains described in this notice and the Cayuga Nation; Oneida Indian Nation; Oneida Nation; Onondaga Nation; Saint Regis Mohawk Tribe; Seneca Nation of Indians; Seneca-Cayuga Nation; Stockbridge Munsee Community, Wisconsin; Tonawanda Band of Seneca; and the Tuscarora Nation.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after November 8, 2024. If competing requests for repatriation are received, the Fort Ticonderoga Association must determine the most appropriate requestor prior to repatriation. Requests for joint repatriation of the human remains are considered a single request and not competing requests. The Fort Ticonderoga Association is responsible for sending a copy of this notice to the Indian Tribes identified in this notice.

Authority: Native American Graves Protection and Repatriation Act, 25 U.S.C. 3003, and the implementing regulations, 43 CFR 10.9, 10.10, and 10.14.

Dated: September 30, 2024.
Melanie O'Brien,
Manager, National NAGPRA Program.

[FR Doc. 2024-23366 Filed 10-8-24; 8:45 am]

BILLING CODE 4312-52-P